DEPARTMENT OF COMMERCE

International Trade Administration

[A-570-831]

Fresh Garlic From the People's Republic of China: Preliminary Results of the Antidumping Duty New Shipper Review

AGENCY: Enforcement and Compliance, International Trade Administration, Department of Commerce.

SUMMARY: The Department of Commerce (Commerce) is conducting a new shipper review of Jinxiang Infang Fruit & Vegetable Co., Ltd. (Infang) regarding the antidumping duty order on fresh garlic from the People's Republic of China (China). The period of review (POR) is November 1, 2017, through May 31, 2018. We have preliminarily determined that Infang's sale was a bona fide transaction, and that the sale was made below normal value (NV). Interested parties are invited to comment on these preliminary results.

DATES: Applicable June 13, 2019.

FOR FURTHER INFORMATION CONTACT: Alex Cipolla, AD/CVD Operations, Office VII, Enforcement and Compliance, International Trade Administration, U.S. Department of Commerce, 1401 Constitution Avenue NW, Washington, DC 20230; telephone: (202) 482-4956.

SUPPLEMENTARY INFORMATION:

Background

On July 9, 2018, at the request of Infang, Commerce published a notice of initiation of a semiannual new shipper review of fresh garlic from China for the period November 1, 2017, through May 31, 2018.¹ On December 18, 2018, we extended the deadline for the preliminary results to April 26, 2019.² Commerce exercised its discretion to toll all deadlines affected by the partial federal government closure from December 22, 2018, through the resumption of operations on January 29, 2019.³ Accordingly, the revised deadline for the preliminary results was June 5, 2019. On June 5, 2019, Commerce fully extended the deadline for the preliminary results.⁴ The revised deadline for the preliminary results of this review is now June 7, 2019.

¹ See Fresh Garlic from the People's Republic of China: Initiation of Semiannual Antidumping Duty New Shipper Review; 2017-2018, 83 FR 31734 (July 9, 2018); see also Infang's Letter, “Fresh Garlic from the People's Republic of China—Request for a New Shipper Review,” dated May 23, 2018.

² See Memorandum, “Fresh Garlic from the People's Republic of China—Semiannual Antidumping Duty New Shipper Review (2017-2018): Extension of Deadline for the Preliminary Results,” dated December 18, 2018.

³ See Memorandum, “Deadlines Affected by the Partial Shutdown of the Federal Government,” dated January 28, 2019. All deadlines in this segment of the proceeding have been extended by 40 days.

⁴ See Memorandum, “Fresh Garlic from the People's Republic of China—Semiannual Antidumping Duty New Shipper Review (2017-2018): Extension of Deadline for the Preliminary Results,” dated June 5, 2019.

Scope of the Order

The merchandise covered by this order is all grades of garlic, whether whole or separated into constituent cloves.⁵ The subject merchandise is currently classifiable under the Harmonized Tariff Schedule of the United States (“HTSUS”) subheadings: 0703.20.0000, 0703.20.0005, 0703.20.0010, 0703.20.0015, 0703.20.0020, 0703.20.0090, 0710.80.7060, 0710.80.9750, 0711.90.6000, 0711.90.6500, 2005.90.9500, 2005.90.9700, and 2005.99.9700. A full description of the scope of the order is contained in the Preliminary Decision Memorandum. Although the HTSUS subheadings are provided for convenience and customs purposes, the written product description is dispositive.

⁵ See Memorandum, “Decision Memorandum for the Preliminary Results of the Semiannual 2017-2018 Antidumping Duty New Shipper Review: Fresh Garlic from the People's Republic of China,” dated concurrently with, and hereby adopted by, this notice (Preliminary Decision Memorandum), for a complete description of the Scope of the Order.

Separate Rate

Commerce preliminarily determines that Infang is eligible to receive a separate rate in this review.⁶

⁶ See Preliminary Decision Memorandum at 5-6.

Methodology

Commerce is conducting this review in accordance with section 751(a)(2)(B) of the Tariff Act of 1930, as amended (the Act), and 19 CFR 351.214. Commerce calculated export price in accordance with section 772(c) of the Act. Because China is a non-market economy country within the meaning of section 771(18) of the Act, Commerce calculated normal value in accordance with section 773(c) of the Act.

For a full description of the methodology underlying our conclusions, see the Preliminary Decision Memorandum. The Preliminary Decision Memorandum is a public document and is made available to the public electronically via Enforcement and Compliance's Antidumping and Countervailing Duty Centralized Electronic Service System (ACCESS). ACCESS is available to registered users at https://access.trade.gov and in Commerce's Central Records Unit, Room B8024 of the main Department of Commerce building. In addition, a complete version of the Preliminary Decision Memorandum can be accessed directly on the internet at http://enforcement.trade.gov/frn/. The signed Preliminary Decision Memorandum and the electronic versions of the Preliminary Decision Memorandum are identical in content. A list of the topics discussed in the Preliminary Decision Memorandum is attached as an Appendix to this notice.

Preliminary Results of New Shipper Review

As a result of the new shipper review, Commerce preliminarily determines that the following weighted-average dumping margin exists for the new shipper review covering the period November 1, 2017, through May 31, 2018:

Producer/exporter | Weighted- average margin (dollars per kilogram)
Producer: Jinxiang Excelink Foodstuffs Co., Ltd.; Exporter: Jinxiang Infang Fruit & Vegetable Co., Ltd. | 4.31

Disclosure and Public Comment

Commerce intends to disclose the analysis performed for these preliminary results to interested parties within five days of the date of publication of this notice in accordance with 19 CFR 351.224(b). Case briefs or other written comments may be submitted no later seven days after the date on which the verification report is issued. Rebuttal briefs, limited to issues raised in case briefs, may be submitted no later than five days after the deadline date for case briefs.⁷ Pursuant to 19 CFR 351.309(c)(2) and (d)(2), parties who submit case briefs or rebuttal briefs in this proceeding are encouraged to submit with each argument: (1) A statement of the issues; (2) a brief summary of the arguments; and (3) a table of authorities. Any electronically filed document must be received successfully in its entirely by Commerce's electronic records system, ACCESS, by the date and time it is due.

⁷ See 19 CFR 351.309(c)-(d).

Any interested party may request a hearing within 30 days of publication of this notice.⁸ Hearing requests should contain the following information: (1) The party's name, address, and telephone number; (2) the number of participants; and (3) a list of the issues to be discussed. Oral presentations will be limited to issues raised in the briefs. If a request for a hearing is made, Commerce intends to notify parties of the time and date for the hearing to be held at the U.S. Department of Commerce, 1401 Constitution Avenue NW, Washington, DC 20230.⁹

⁸ See 19 CFR 351.310(c).

⁹ See 19 CFR 351.310(d).

Unless the deadline is extended, Commerce intends to issue the final results of this new shipper review, which will include the results of its analysis of issues raised in any such comments, within 90 days of publication of these preliminary results, pursuant to section 751(a)(2)(B)(iii) of the Act and 19 CFR 351.214(i)(1).

Assessment Rates

Upon completion of the final results, pursuant to 19 CFR 351.212(b), Commerce will determine, and the U.S. Customs and Border Protection (CBP) shall assess, antidumping duties on all appropriate entries. If Infang's weighted-average dumping margin is above de minimis (i.e., 0.50 percent) in the final results of this new shipper review, Commerce intends to calculate an importer-specific assessment rate on the basis of the ratio of the total amount of dumping calculated for each importer's examined sales and, where possible, the total entered value of sales in accordance with 19 CFR 351.212(b)(1). Where an importer- (or customer-) specific ad valorem rate is zero or de minimis, we will instruct CBP to liquidate appropriate entries without regard to antidumping duties.¹⁰

¹⁰ See 19 CFR 351.106(c)(2).

Cash Deposit Requirements

With regard to Infang, the respondent in this new shipper review, the following cash deposit requirements will be effective upon publication of the final results of this new shipper review (1) for subject merchandise produced and exported by the producer and exporter combination listed in the “Preliminary Results of New Shipper Review” section above, the cash deposit rate will be that established in the final results of this new shipper review; (2) for subject merchandise exported by Infang, but not produced by Jinxiang Excelink Foodstuffs Co., Ltd., the cash deposit rate will be the rate for the China-wide entity; and (3) for subject merchandise produced by Jinxiang Excelink Foodstuffs Co., Ltd., but not exported by Infang, the cash deposit rate will be the rate applicable to the exporter. These deposit requirements, when imposed, shall remain in effect until further notice.

Verification

Consistent with section 782(i) of the Act and 19 CFR 351.307(b)(1)(iv), we intend to verify the information provided by Infang in the new shipper review using standard verification procedures, including on-site inspection of the producer's and exporter's facilities, and examination of relevant sales and financial records. Any verification results will be outlined in the verification report for Infang after completion of the verification.

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

We are issuing and publishing these preliminary results of this new shipper review in accordance with sections 751(a)(2)(b) and 777(i) of the Act, and 19 CFR 351.214 and 351.221(b)(4).

Dated: June 7, 2019.
Jeffrey I. Kessler,
Assistant Secretary for Enforcement and Compliance.

Appendix

List of Topics Discussed in the Preliminary Decision Memorandum

I. Summary

II. Background

III. Scope of the Order

IV. Discussion of Methodology

A. Bona Fides Analysis

B. Non-Market Economy Status

C. Separate Rate Determination

D. Surrogate Country and Surrogate Value Data

E. Surrogate Country Analysis

F. Surrogate Country Selection

G. Date of Sale

H. Comparisons to Normal Value

I. Export Price

J. Value-Added Tax

K. Normal Value

L. Surrogate Values

M. Currency Conversion

V. Recommendation

[FR Doc. 2019-12495 Filed 6-12-19; 8:45 am]

BILLING CODE 3510-DS-P